DEPARTMENT OF THE INTERIOR

Fish and Wildlife Service

North Mississippi National Wildlife Refuge Complex

AGENCY: Fish and Wildlife Service, Department of the Interior.

ACTION: Notice of Availability of the Draft Comprehensive Conservation Plan and Environmental Assessment for the North Mississippi National Wildlife Refuge Complex, which consists of three national wildlife refuges—Coldwater River, Dahomey, and Tallahatchie, as well as a number of Farmers Home Administration tracts in the northern section of the Mississippi Delta.

SUMMARY: The Fish and Wildlife Service announces that a Draft Comprehensive Conservation Plan and Environmental Assessment for the Northern Mississippi National Wildlife Refuge Complex are available for review and comment. The National Wildlife Refuge System Administration Act of 1966, as amended by the National Wildlife Refuge System Improvement Act of 1997, requires the Service to develop a comprehensive conservation plan for each national wildlife refuge. The purpose in developing a comprehensive conservation plan is to provide refuge managers with a 15-year strategy for achieving refuge purposes and contributing toward the mission of the National Wildlife Refuge System, consistent with sound principles of fish and wildlife management, conservation, legal mandates, and Service policies. In addition to outlining broad management direction on conserving wildlife and their habitats, the plan identifies wildlife-dependent recreational opportunities available to the public, including opportunities for hunting, fishing, wildlife observation, wildlife photography, and environmental education and interpretation.

Significant issues addressed in the draft plan include: threatened and endangered species; waterfowl management; neotropical migratory birds; bottomland hardwood restoration; agriculture; visitor services (e.g., hunting, fishing, wildlife observation, wildlife photography, and environmental education and interpretation); funding and staffing; cultural resources; land acquisition; and forest fragmentation.

DATES: A meeting will be held to present the plan to the public. Mailings, newspaper articles, and posters will be the avenues to inform the public of the date and time for the meeting. Individuals wishing to comment on the Draft Comprehensive Conservation Plan and Environmental Assessment for the North Mississippi National Wildlife Refuge Complex should do so within 45 days following the date of this notice.

ADDRESSES: Requests for copies of the Draft Comprehensive Conservation Plan and Environmental Assessment should be addressed to the North Mississippi National Wildlife Refuge Complex, 2776 Sunset Drive, Grenada, Mississippi 38901; telephone 662/226-8286. The plan and environmental assessment may also be accessed and download from the Service's Internet Web site http://southeast. fws.gov/planning/. Comments on the draft plan may be submitted to the above address or via electronic mail to mike_dawson@fws.gov. Please include your name and return address in your Internet message. Our practice is to make comments, including names and home addresses of respondents, available for public review during regular business hours. Individual respondents may request that we withhold their home addresses from the record, which we will honor to the extent allowable by law.

SUPPLEMENTARY INFORMATION: The Service developed for alternatives for managing the Complex and chose Alternative D as the preferred alternative.

Alternatives

The draft comprehensive conservation plan and environmental assessment evaluates the four alternatives for managing the Complex over the next 15 years. These alternatives are briefly described as follows:

Alternative A. Existing Complex management and public outreach practices would be favored under this alternative. All management actions would be directed towards achieving the Complex's primary purposes, including (1) preserving wintering waterfowl habitat; (2) providing production habitat for wood ducks; (3) meeting the habitat conservation goals of national and international plans; and (4) preserving wetlands, all the while contributing to other national, regional, and state goals to protect and restore migratory birds, threatened and endangered species, and resident species. Refuge management programs would continue to be developed and implemented with limited baseline biological information. Active habitat management would be implemented through water level manipulations and moist-soil, cropland, and forest management designed to provide a diverse complex of habitats that meets the foraging, resting, and breeding requirements for a variety of species. The staff of the Complex would continue to restore and maintain existing wetland, open water, moist-soil, and bottomland hardwood forest habitats. Land would be acquired from willing sellers within the current 47,816-acre acquisition boundary.

Hunting and fishing would continue to be major focuses of the public use program, with no expansion of current opportunities. Current restrictions or prohibitions would remain. Environmental education, wildlife observation, and wildlife photography would be accommodated at present levels. If funding becomes available, a visitor center and headquarters office would be constructed on Highway 82 at the Povall Tract.

Alternative B. This alternative would emphasize significantly more public recreational uses while maintaining current habitat management. Any additional staff, emphasis, and resources would be directed to allow for more public activities. Current moist-soil, cropland, forest, and wetland management would continue. Hunting and fishing opportunities would be increased as funding and personnel allow.

Auto tours, canoe trails, foot trails, interpretive trail(s), and observation towers and blinds would be added for environmental education, wildlife photography, and watchable wildlife programs. Additional staff would be used for developing and presenting both on- and off-site environmental education and interpretation programs. An outreach coordinator would be employed to serve the Complex.

A visitor center and headquarters office would be constructed on Highway 82 at the Povall Tract and jointly shared with the Service's Private John Allen National Fish Hatchery. New sub-headquarters and visitor contact stations would be constructed at Coldwater River, Dahomey, and Tallahatchie Refuges.

Land acquisition within the current acquisition boundaries would continue with emphasis on those lands that could provide additional public use opportunities. Any additional expansions, up to 10 percent of the current acquisition boundary, would focus on public use opportunities.

Alternative C. Under this alternative, refuge lands would be intensively managed to provide high quality habitat for wildlife, particularly migratory birds. Any areas within the Complex with pumping capabilities (wells) and water control structures would be managed for moist-soil vegetation, or would be force-account farmed (with 100 percent of crops left standing) to benefit migratory waterfowl. Cooperative farming fields would be planted in rice, milo, corn, or soybeans (in order of preference) and flooded during the late fall and winter.

The wood duck next box program would be expanded on all three refuges and would extend onto Farmers Home Administration tracts with suitable brood habitat. On sites with permanent water, wood duck brood habitat would be developed to promote brood survival. Boxes would be cleaned and maintained regulatory to allow two and three broods per box per year.

Primary emphasis would be placed on meeting objectives of the various step-down plans and providing habitat for waterfowl and shorebirds. These habitats and their uses would be monitored on the refuge to ensure that goals and objectives were met. Population and habitat surveys would be conducted throughout the refuges to develop baseline data to determine initial population levels and habitat conditions. Staff would monitor changes over time.

Wildlife-dependent recreation activities (e.g., hunting, fishing, wildlife observation, wildlife photography, and environmental education and interpretation) would be allowed, but only when and where they do not detract from, or conflict with, wildlife management activities and objectives. Infrastructures on the refuges (e.g., trails and blinds) would be developed primarily to conduct wildlife management activities. A visitor center and headquarters office would be constructed on Highway 82 at the Povall Tract.

Under this alternative, the Complex would continue to seek from willing seller lands within the present acquisition boundary. Highest priority would be given to those lands adjacent to existing refuge tracts and those lands supporting unique habitats. Additionally, the Complex would concentrate all future off-refuge partnerships on promoting more intensive wildlife management on privately owned lands. Personnel priorities would include employing a biologist and/or technician for the Complex and a forester to conduct forest management activities at Dahomey Refuge.

Alternative D. The Service's planning team has identified Alternative D as the preferred alternative. This alternative was developed based on public input and the best professional judgment of the planning team. The objectives and strategies presented in the draft plan were developed as a direct result of the selection of Alternative D.

Alternative D represents a combination and/or compromise between Alternative B (Public Use Emphasis) and Alternative C (Wildlife Management Emphasis). Whereas these two alternatives seek to maximize either expanded public use or expanded wildlife management opportunities, Alternative D seeks to optimize the benefits of the Complex to wildlife and people.

Under Alternative D, refuge lands would be more intensively managed than at present to provide high quality habitat for wildlife, particularly migratory birds. Any areas within the Complex with pumping capabilities (wells) and water control structures would be managed for moist-soil vegetation or would be force-account farmed (with 100 percent of crops left standing) to benefit migratory waterfowl. Cooperative farming fields would be planted in rice, milo, corn, or soybeans (in order of preference) and flooded during the late fall and winter.

The wood duck nest box program would be expanded on all three refuges and may extend onto some Farmers Home Administration tracts that have suitable brood habitat. Boxes would be cleaned and maintained regularly to allow two and three broods per box per year.

Increased emphasis would be placed on meeting objectives of various step-down plans providing habitat for waterfowl and shorebirds. These habitats and their uses would be monitored on the refuge to ensure that goals and objectives were met. Population and habitat surveys would be conducted throughout the refuges to develop baseline data to determine initial population levels and habitat conditions. Staff would monitor changes over time.

This alternative would encourage more public recreational uses even while intensifying current habitat management. Additional staff, emphasis, and resources would be more or less evenly divided between enhancing public use opportunities and wildlife/habitat management. Hunting and fishing opportunities would be increased as funding and personnel allow. Moist-soil, cropland, forest, and wetland management would also intensify to the extent permitted by funding and staffing limits.

An auto tour, a canoe trial, one or more foot trail(s) and/or interpretative trail(s), an observation tower, and one or more blinds would be added for environmental education, photography, and watchable wildlife programs. Staff may be added for developing and presenting both on- and off-site environmental education and interpretation programs.

Under Alternative D, the Complex would continue to seek from willing sellers lands within the present acquisition boundary, expanding Complex acreage by up to an additional 10 percent of the current acquisition boundary. Highest priority would be given to those lands adjacent to existing refuge tracts and those lands supporting unique habitats or offering wildlife-dependent public use opportunities. Additionally, the Complex would concentrate future off-refuge partnerships on promoting more intensive wildlife management on privately owned lands.

Personnel priorities would include employing additional law enforcement offices for the Complex, an outreach coordinator to serve the Complex as a whole, a biologist and/or technician for each refuge to include the Farmers Home Administration tracts, and a forester to conduct forest management activities at Dahomey Refuge.

A visitor center and headquarters office would be constructed on Highway 82 at the Povall Tract and jointly shared with the Service's Private John Allen National Fish Hatchery. New sub-headquarters and visitor contact stations would be constructed at Coldwater River, Dahomey, and Tallahatchie Refuges.

Authority: This notice is published under the authority of the National Wildlife Refuge System Improvement Act of 1997, Public Law 105-57.

Dated: March 14, 2005.
Cynthia K. Dihner,
Acting Regional Director.

[FR Doc. 05-11617 Filed 6-12-05; 8:45 am]

BILLING CODE 4310-55-M